DEPARTMENT OF DEFENSE

Office of the Secretary

[Docket ID DoD-2022-OS-0036]

Submission for OMB Review; Comment Request

AGENCY: The Office of the Director of Administration and Management, Department of Defense (DoD).

ACTION: 30-day information collection notice.

SUMMARY: The Department of Defense has submitted to OMB for clearance the following proposal for collection of information under the provisions of the Paperwork Reduction Act.

DATES: Consideration will be given to all comments received by September 6, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, or whs.mc-alex.esd.mbx.dd-dod-information-collections@mail.mil.

Title; Associated Form; and OMB Number: Pentagon Facilities Access Control System; DD Form 2249; OMB Control Number 0704-AAFV.

Type of Request: Collection in use without an OMB Control Number.

DD Form 2249

Number of Respondents: 47,200.

Responses per Respondent: 1.

Annual Responses: 47,200.

Average Burden per Response: 10 minutes.

Annual Burden Hours: 7,866.67.

VMS Registration Portal

Number of Respondents: 211,000.

Responses per Respondent: 1.

Annual Responses: 211,000.

Average Burden per Response: 7 minutes.

Annual Burden Hours: 24,616.67.

Needs and Uses: The information will be used by the Pentagon Pass Office to conduct a National Crime Information Center check of all members of the public 18 years and older that request access to the Pentagon or a Pentagon facility. The method for collecting the required information depends on the status of the individual making the request and the length of time that they require access. There are two collection methods, the DD Form 2249 and the Visitor Management System (VMS) Registration Portal. The DD Form 2249 is used for individuals who already have a Personal Identity Verification (PIV) Card or Common Access Card (CAC). Individuals who do not meet the criteria for a PIV or CAC and require access into the Pentagon or a Pentagon facility can also fill out the DD Form 2249 to request a Pentagon Facility Alternate Credential. The VMS Registration Portal is filled out by individuals who are deemed visitors and do not have swipe access into the Pentagon or Pentagon facilities. These individuals must be registered by a sponsor and their visits must also be initiated by a sponsor.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and/title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: August 1, 2022.
Aaron T. Siegel,
Alternate OSD Federal Register Liaison Officer, Department of Defense.

[FR Doc. 2022-16759 Filed 8-3-22; 8:45 am]

BILLING CODE 5001-06-P